DEPARTMENT OF JUSTICE

Notice of Lodging Proposed Consent Decree

In accordance with Departmental Policy, 28 CFR 50.7, notice is hereby given that a proposed Consent Decree in United States v. Savoy Senior Housing Corp., et al., No. 6:06-cv-31 (W.D. Va.), was lodged with the United States District Court for the Western District of Virginia, Lynchburg Division, on January 7, 2009.

The proposed Consent Decree concerns a complaint filed by the United States against Savoy Senior Housing Corporation, Savoy Liberty Village, LLC, SDB Construction, Inc., Jacob A. Frydman, Best G.C., Inc. (a/k/a Best Grading), and Acres of Virginia, Inc., for alleged violations of Section 301(a) of the Clean Water Act (CWA), 33 U.S.C. 1311(a). The proposed Consent Decree resolves all allegations against the defendants for discharging dredged or fill material, and/or controlling and directing such discharges, into waters of the United States at a 140-acre property located in Campbell County, Virginia, without a permit issued by the United States Army Corps of Engineers. The proposed Consent Decree also resolves all allegations against the defendants for discharging sediment in stormwater, and/or controlling and directing such discharges, into waters of the United States on or from the same property, both without a CWA permit and in violation of such a permit once it was obtained.

The proposed Consent Decree requires Savoy Senior Housing Corporation, Savoy Liberty Village, LLC, SDB Construction, Inc., Best G.C., Inc., and Acres of Virginia, Inc., to pay to the United States a civil penalty. The proposed Consent Decree also requires these defendants to restore certain areas on and adjacent to the 140-acre site, and also to fund off-site mitigation through the purchase of credits from stream and wetland restoration banks in the region.

The Department of Justice will accept written comments relating to the proposed Consent Decree for thirty (30) days from the date of publication of this Notice. Please address comments to Kenneth C. Amaditz, Trial Attorney, Environmental Defense Section, P.O. Box 23986, Washington, DC 20026-3986, and refer to United States v. Savoy Senior Housing Corp., et al., DJ # 90-5-1-1-17868.

The proposed Consent Decree may be examined at the Clerk's Office, United States District Court for the Western District of Virginia in Lynchburg, Virginia. In addition, the proposed Consent Decree may be viewed at http://www.usdoj.gov/enrd/Consent_Decrees.html.

Russell M. Young,
Assistant Chief, Environmental Defense Section, Environment & Natural Resources Division.

[FR Doc. E9-605 Filed 1-13-09; 8:45 am]

BILLING CODE 4410-CW-P